DEPARTMENT OF TRANSPORTATION

Federal Aviation Administration

[AC 187-1B]

Flight Standards Service Schedule of Charges Outside the United States

AGENCY: Federal Aviation Administration (FAA), DOT.

ACTION: Notice of availability.

SUMMARY: The Federal Aviation Administration (FAA) is announcing the availability of revised Advisory Circular (AC) 187-1B, Flight Standards Service Schedule of Charges Outside the United States, which transmits an updated schedule of charges for services of FAA Flight Standards aviation safety inspectors outside the United States. The FAA updated this advisory circular in accordance with the procedures listed in Title 14 Code of Federal Regulations part 187, appendix A.

DATES: This AC was effective on March 28, 2008.

ADDRESSES: How to obtain copies: A copy of this publication may be downloaded from: http://rgl.faa.gov/Regulatory_and_Guidance_Library/rgAdvisoryCircular.nsf/0/2942D01E37AF962A8625741A007210A3?OpenDocument&Highlight=187.

FOR FURTHER INFORMATION CONTACT: Dr. Geoff McIntyre, Flight Standards Service, AFS-50, Federal Aviation Administration, 800 Independence Avenue, SW., Washington, DC 20591, telephone (202) 385-8139; e-mail: geoff.mcintyre@faa.gov.

Issued in Washington, DC on April 1, 2008.
James J. Ballough,
Director, Flight Standards Service.

[FR Doc. E8-7394 Filed 4-8-08; 8:45 am]

BILLING CODE 4910-13-P